DEPARTMENT OF TRANSPORTATION

Federal Aviation Administration

14 CFR Part 39

[Docket No. FAA-2004-19897; Directorate Identifier 2004-CE-45-AD; Amendment 39-14003; AD 2005-05-14]

RIN 2120-AA64

Airworthiness Directives; Eagle Aircraft (Malaysia) Sdn. Bhd. Model Eagle 150B Airplanes

AGENCY: Federal Aviation Administration (FAA), DOT.

ACTION: Final rule.

SUMMARY: The FAA adopts a new airworthiness directive (AD) for certain Eagle Aircraft (Malaysia) Sdn. Bhd. Model Eagle 150B airplanes. This AD requires you to modify or replace the co-pilot rudder pedal assembly. This AD results from mandatory continuing airworthiness information (MCAI) issued by the airworthiness authority for Malaysia. We are issuing this AD to prevent binding of the co-pilot rudder pedal assembly due to premature wear of the bushing, which could result in loss of co-pilot rudder and brake control. This failure could result in loss of control of the airplane.

DATES: This AD becomes effective on April 22, 2005.

As of April 22, 2005, the Director of the Federal Register approved the incorporation by reference of certain publications listed in the regulation.

ADDRESSES: To get the service information identified in this AD, contact Eagle Aircraft (Malaysia) Sdn. Bhd., PO Box 1028, Pejabat Pos Besar, Melaka, Malaysia, 75150; telephone: 011 (606) 317-4105; facsimile: 011 (606) 317-7213. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19897; Directorate Identifier 2004-CE-45-AD.

FOR FURTHER INFORMATION CONTACT: Karl Schletzbaum, Aerospace Engineer, Small Airplane Directorate, ACE-112, 901 Locust, Rm 301, Kansas City, Missouri 64106; telephone: (816) 329-4146; facsimile: (816) 329-4149.

SUPPLEMENTARY INFORMATION:

Discussion

What events have caused this AD? The Department of Civil Aviation, Malaysia (DCA), which is the airworthiness authority for Malaysia, recently notified FAA that an unsafe condition may exist on certain Eagle Aircraft Sdn. Bhd. Model Eagle 150B airplanes. The DCA reports two incidents of the co-pilot rudder pedal assembly, part number (P/N) 2720D07-02, binding and becoming inoperable during flight.

Investigation revealed that the two incidents resulted from premature wear of the bushing, P/N 2720D08-39, in the co-pilot rudder pedal assembly. Premature wear of the bushing allowed it to slide of out the housing resulting in excessive play between the co-pilot rudder pedal assembly and the shaft. That condition caused the co-pilot rudder control pushrod pivot, P/N 2720D08-31/04, to bind with the co-pilot pivot arms, P/N 2720D08-42.

Stronger material is used now to manufacture the bushing and it has also been improved by including side stoppers.

What is the potential impact if FAA took no action? If not corrected, binding of the co-pilot rudder pedal assembly could result in loss of co-pilot rudder and brake control. This failure could result in loss of control of the airplane.

Has FAA taken any action to this point? We issued a proposal to amend part 39 of the Federal Aviation Regulations (14 CFR part 39) to include an AD that would apply to certain Eagle Aircraft (Malaysia) Sdn. Bhd. Model Eagle 150B airplanes. This proposal was published in the Federal Register as a notice of proposed rulemaking (NPRM) on January 12, 2005 (70 FR 2070). The NPRM proposed to require you to modify or replace the co-pilot rudder pedal assembly.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 13 airplanes in the U.S. registry.

What is the cost impact of this AD on owners/operators of the affected airplanes? We estimate the following costs to accomplish the modification:

Labor hours | Parts cost | Total cost per airplane
4 work hours × $65 per hour = $260. Eagle Aircraft has agreed to reimburse for the cost of labor | Eagle Aircraft has agreed to provide the parts without cost | Not applicable.

We estimate the following costs to accomplish the replacements:

Labor cost | Parts cost | Total cost per airplane
3 work hours × $65 per hour = $195 | $1,440 | $1,635

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19897; Directorate Identifier 2004-CE-45-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-05-14 Eagle Aircraft (Malaysia) Sdn. Bhd.: Amendment 39-14003; Docket No. FAA-2004-19897; Directorate Identifier 2004-CE-45-AD.

When Does This AD Become Effective?

(a) This AD becomes effective on April 22, 2005.

What Other ADs Are Affected by This Action?

(b) None.

What Airplanes Are Affected by This AD?

(c) This AD affects Model Eagle 150B airplanes, manufacturer serial numbers (MSN) 016 through 042, that are:

(1) Equipped with a co-pilot rudder pedal assembly welded design, part number (P/N) 2720D07-02; and

(2) Certificated in any category.

What Is the Unsafe Condition Presented in This AD?

(d) This AD is the result of mandatory continuing airworthiness information (MCAI) issued by the airworthiness authority for Malaysia. The actions specified in this AD are intended to prevent binding of the co-pilot rudder pedal assembly due to premature wear of the bushing, which could result in loss of co-pilot rudder and brake control. This failure could result in loss of control of the airplane.

What Must I Do To Address This Problem?

(e) To address this problem, you must do the following, unless already done:

Actions | Compliance | Procedures
(1) Inspect the co-pilot rudder pedal assembly welded design, part number (P/N) 272ODO7-02, for cracks (i) If cracks are found replace the assembly with a new bolted design co-pilot rudder pedal assembly, P/N 2720D07-10 (ii) If no cracks are found, either: | Inspect within 30 days after April 22, 2005 (the effective date of this AD). If cracks are found during the inspection, before further flight replace the rudder pedal assembly. If no cracks are found during the inspection, before further flight, modify or replace the rudder pedal assembly | To inspect and modify the rudder pedal assembly, follow Eagle Aircraft Optional Service Bulletin SB 1096, dated September 16, 2003. To replace the rudder pedal assembly, follow Eagle Aircraft Optional Service Bulletin SB 1097, dated September 16, 2003.
(A) Modify P/N 2720D07-02 by replacing the rudder control bushing with a new P/N 2720D08-39 and installing a rudder control stopper, P/N 2720D08-44; or
(B) Replace P/N 2720D07-02 with a new bolted design co-pilot rudder pedal assembly, P/N 2720D07-10
(2) Do not install a co-pilot rudder pedal assembly, P/N 2720D07-02, unless it has been inspected and modified as required in paragraphs (e)(1) and (e)(1)(ii)(A) of this AD | As of April 22, 2005 (the effective date of this AD) | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, ACE-112, 901 Locust, Rm 301, Kansas City, Missouri, 64106; telephone: (816) 329-4146; facsimile: (816) 329-4149.

What if I Need To Fly the Airplane to Another Location to Comply With This AD?

(g) The FAA can issue a special flight permit under sections 21.197 and 21.199 of the Federal Aviation Regulations (14 CFR 21.197 and 21.199) to operate your airplane to a location where you can accomplish the requirements of this AD provided that the following is adhered to:

(1) Remove the co-pilot rudder pedal assembly, P/N 2720D07-02, from installation following Eagle Aircraft Mandatory Service Bulletin SB 1095, dated September 16, 2003; and

(2) Install a temporary placard in a visible place on the instrument panel that has the following wording: “WARNING: CO-PILOT RUDDER PEDAL IS NON-FUNCTIONAL.”

Is There Other Information That Relates to This Subject?

(h) Malaysia CAM AD 002-10-2004, Issue date: October 30, 2004, also addresses the subject of this AD.

Does This AD Incorporate Any Material by Reference?

(i) You must do the actions required by this AD following the instructions in Eagle Aircraft Optional Service Bulletin SB 1096, dated September 16, 2003; and Eagle Aircraft Optional Service Bulletin SB 1097, dated September 16, 2003. The Director of the Federal Register approved the incorporation by reference of this service bulletin in accordance with 5 U.S.C. 552(a) and 1 CFR part 51. To get a copy of this service information, contact Eagle Aircraft, P.O. Box 1028, Pejabat Pos Besar, Melaka, Malaysia, 75150; telephone: 011 (606) 317-4105; facsimile: 011 (606) 317-7213. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19897; Directorate Identifier 2004-CE-45-AD.

Issued in Kansas City, Missouri, on March 2, 2005.
Nancy C. Lane,
Acting Manager, Small Airplane Directorate, Aircraft Certification Service.

[FR Doc. 05-4554 Filed 3-9-05; 8:45 am]

BILLING CODE 4910-13-P